DEPARTMENT OF THE TREASURY

Public Input on the Report to Congress on How To Modernize and Improve the System of Insurance Regulation in the United States

AGENCY: Departmental Offices, Treasury.

ACTION: Notice and request for comment.

SUMMARY: Section 313(p) of Title 31 of the United States Code, as codified by the Dodd-Frank Wall Street Reform and Consumer Protection Act (Pub. L. 111-203) (the “Dodd-Frank Act”) requires the Federal Insurance Office (the “FIO”) to conduct a study on how to modernize and improve the system of insurance regulation in the United States. The study must be submitted to Congress not later than 18 months after the date of the Dodd-Frank Act's enactment. To assist the FIO in conducting the study and formulating its recommendations, the FIO is issuing this request for comment.

DATES: Comment Due Date: December 16, 2011. Early submissions are encouraged.

ADDRESSES: Interested persons may submit comments electronically through the Federal eRulemaking Portal at http://www.regulations.gov, in accordance with the instructions. Comments will be available at http://www.regulations.gov as submitted, unless modified for technical reasons. Accordingly, your comments will not be edited to remove any identifying or contact information. Electronic submissions are encouraged.

Comments may also be mailed to the Department of the Treasury, Federal Insurance Office, MT 1001, 1500 Pennsylvania Avenue, NW., Washington, DC 20220.

Additional Instructions. Responses should also include: (1) The data or rationale, including examples, supporting any opinions or conclusions; (2) approaches and options toward improvement or modernization, if any; and, (3) any specific legislative, administrative, or regulatory proposals for carrying out such approaches or options.

FOR FURTHER INFORMATION CONTACT: Federal Insurance Office, Department of Treasury, at (202) 622-3137.

SUPPLEMENTARY INFORMATION:

I. Background:

The Dodd-Frank Act requires the FIO to conduct a study on how to modernize and improve the system of insurance regulation in the United States (31 U.S.C. 313(p)(1)). This study will be based on and guided by the considerations and factors listed in the statute.

II. Solicitation for Comments:

Commenters are invited to submit views on:

1. Systemic risk regulation with respect to insurance;

2. Capital standards and the relationship between capital allocation and liabilities, including standards relating to liquidity and duration risk;

3. Consumer protection for insurance products and practices, including gaps in State regulation and access by traditionally underserved communities and consumers, minorities, and low- and moderate-income persons to affordable insurance products;

4. The degree of national uniformity of State insurance regulation, including the identification of, and methods for assessing, excessive, duplicative or outdated insurance regulation or regulatory licensing process;

5. The regulation of insurance companies and affiliates on a consolidated basis;

6. International coordination of insurance regulation;

7. The costs and benefits of potential Federal regulation of insurance across various lines of insurance (except health insurance);

8. The feasibility of regulating only certain lines of insurance at the Federal level, while leaving other lines of insurance to be regulated at the State level;

9. The ability of any potential Federal regulation or Federal regulators to eliminate or minimize regulatory arbitrage;

10. The impact that developments in the regulation of insurance in foreign jurisdictions might have on the potential Federal regulation of insurance;

11. The ability of any potential Federal regulation or Federal regulator to provide robust consumer protection for policyholders; and

12. The potential consequences of subjecting insurance companies to a Federal resolution authority, including the effects of any Federal resolution authority:

i. On the operation of State insurance guaranty fund systems, including the loss of guaranty fund coverage if an insurance company is subject to a Federal resolution authority;

ii. On policyholder protection, including the loss of the priority status of policyholder claims over other unsecured general creditor claims;

iii. In the case of life insurance companies, on the loss of the special status of separate account assets and separate account liabilities; and

iv. On the international competiveness of insurance companies.

Authority: 31 U.S.C. 313.

Michael T. McRaith,
Director, Federal Insurance Office, Department of Treasury.

[FR Doc. 2011-26776 Filed 10-14-11; 8:45 am]

BILLING CODE 4810-25-P